DEPARTMENT OF HOMELAND SECURITY

[Docket No. DHS-2015-0030]

Homeland Security Advisory Council—Meeting

AGENCY: The Office of Intergovernmental Affairs, DHS.

ACTION: Notice of open teleconference federal advisory committee meeting.

SUMMARY: The Homeland Security Advisory Council (HSAC) will meet via teleconference for the purpose of reviewing and deliberating on recommendations by the HSAC CBP Integrity Advisory Panel.

DATES: The HSAC conference call will take place from 4 p.m. to 5 p.m. EDT on June 29, 2015. The meeting is scheduled for one hour and may end early if all business is completed before 5 p.m. EDT.

ADDRESSES: The HSAC meeting will be held via teleconference. Members of the public interested in participating may do so by following the process outlined below (see “Public Participation”). Written comments must be submitted and received by Thursday, June 25, 2015. Comments must be identified by Docket No. DHS-2015-0030 and may be submitted by one of the following methods:

• Federal eRulemaking Portal: http://www.regulations.gov. Follow the instructions for submitting comments.

• Email: HSAC@hq.dhs.gov. Include Docket No. DHS-2015-0013 in the subject line of the message.

• Fax: (202) 282-9207.

• Mail: Homeland Security Advisory Council, Department of Homeland Security, Mailstop 0445, 245 Murray Lane SW., Washington, DC 20528.

Instructions: All Submissions received must include the words “Department of Homeland Security” and DHS-2015-0030, the docket number for this action. Comments received will be posted without alteration at http://www.regulations.gov, including any personal information provided.

Docket: For access to the docket to read comments received by the DHS Homeland Security Advisory Council, go to http://www.regulations.gov, search “DHS-2015-0030,” “Open Docket Folder” and provide your comments.

FOR FURTHER INFORMATION CONTACT: Jay Visconti at hsac@dhs.gov or at (202) 447-3135.

SUPPLEMENTARY INFORMATION: Notice of this meeting is given under Section 10(a) of the Federal Advisory Committee Act (FACA), Public Law 92-463 (5 U.S.C. App.) requires each FACA committee meeting to be open to the public.

The HSAC provides organizationally independent, strategic, timely, specific, and actionable advice and recommendations for the consideration of the Secretary of the Department of Homeland Security (DHS) on matters related to homeland security. The Council is comprised of leaders of local law enforcement, first responders, state and local government, the private sector, and academia.

The HSAC will review and deliberate on the CBP Integrity Advisory Panel interim findings and recommendations.

Public Participation: Members of the public will be in listen-only mode. The public may register to participate in this HSAC teleconference via the following procedures. Each individual must provide his or her full legal name and email address no later than 5 p.m. EDT on Tuesday, June 23, 2015 to a staff member of the HSAC via email to HSAC@dhs.gov or via phone (202) 447-3135. The conference call details and the CBP Integrity Advisory Panel report will be provided to interested members of the public at the time they register.

Information on Services for Individuals with Disabilities: For information on facilities or services for individuals with disabilities, or to request special assistance during the teleconference contact Jay Visconti (202) 447-3135.

Dated: June 8, 2015.
Sarah E. Morgenthau,
Executive Director, Homeland Security Advisory Council, DHS.

[FR Doc. 2015-14401 Filed 6-11-15; 8:45 am]

BILLING CODE 9110-9M-P